DEPARTMENT OF AGRICULTURE

Animal and Plant Health Inspection Service

9 CFR Part 77

[Docket No. APHIS-2011-0093]

Tuberculosis in Cattle and Bison; State and Zone Designations; New Mexico

AGENCY: Animal and Plant Health Inspection Service, USDA.

ACTION: Interim rule and request for comments.

SUMMARY: We are amending the bovine tuberculosis regulations regarding State and zone classifications by reclassifying a zone in New Mexico consisting of Curry and Roosevelt Counties. We have determined that the zone meets the criteria for accredited-free status. Since the remainder of the State is already classified as accredited free, the entire State of New Mexico is now classified as accredited free. This action relieves certain restrictions on the interstate movement of cattle and bison from Curry and Roosevelt Counties in New Mexico.

DATES: This interim rule is effective October 4, 2011. We will consider all comments that we receive on or before December 5, 2011.

ADDRESSES: You may submit comments by either of the following methods:

• Federal eRulemaking Portal: Go to http://www.regulations.gov/#!documentDetail;D=APHIS-2011-0093-0001.

• Postal Mail/Commercial Delivery: Send your comment to Docket No. APHIS-2011-0093, Regulatory Analysis and Development, PPD, APHIS, Station 3A-03.8, 4700 River Road Unit 118, Riverdale, MD 20737-1238.

Supporting documents and any comments we receive on this docket may be viewed at http://www.regulations.gov/#!docketDetail;D=APHIS-2011-0093 or in our reading room, which is located in room 1141 of the USDA South Building, 14th Street and Independence Avenue, SW., Washington, DC. Normal reading room hours are 8 a.m. to 4:30 p.m., Monday through Friday, except holidays. To be sure someone is there to help you, please call (202) 690-2817 before coming.

FOR FURTHER INFORMATION CONTACT: Dr. Kathleen Orloski, Senior Staff Veterinarian, Ruminant Health Programs, Veterinary Services, APHIS, 2150 Centre Avenue, Building B3E20, Fort Collins, CO 80526; (970) 494-7221.

SUPPLEMENTARY INFORMATION:

Background

Bovine tuberculosis is a contagious and infectious granulomatous disease caused by the bacterium Mycobacterium bovis. Although commonly defined as a chronic debilitating disease, bovine tuberculosis can occasionally assume an acute, rapidly progressive course. While any body tissue can be affected, lesions are most frequently observed in the lymph nodes, lungs, intestines, liver, spleen, pleura, and peritoneum. Although cattle are considered to be the true hosts of M. bovis, the disease has been reported in several other species of both domestic and nondomestic animals, as well as in humans.

At the beginning of the past century, tuberculosis caused more losses of livestock than all other livestock diseases combined. This prompted the establishment in the United States of the National Cooperative State/Federal Bovine Tuberculosis Eradication Program for tuberculosis in livestock.

In carrying out the national eradication program, the Animal and Plant Health Inspection Service (APHIS) issues and enforces regulations. The regulations require the testing of cattle and bison for tuberculosis, define the Federal tuberculosis status levels for States or zones (accredited-free, modified accredited advanced, modified accredited, accreditation preparatory, and nonaccredited), provide the criteria for attaining and maintaining those status levels, and contain testing and movement requirements for cattle and bison leaving States or zones of a particular status level. These regulations are contained in 9 CFR part 77 and in the Bovine Tuberculosis Eradication Uniform Methods and Rules, 1999 (UMR), which is incorporated by reference into the regulations.

The status of a State or zone is based on its prevalence of tuberculosis in cattle and bison, the effectiveness of the State's tuberculosis eradication program, and the degree of the State's compliance with standards for cattle and bison contained in the UMR. The regulations provide that a State may request partitioning into specific geographic regions or zones with different status designations (commonly referred to as split-State status) if bovine tuberculosis is detected in a portion of a State and the State demonstrates that it meets certain criteria with regard to zone classification.

Request for Advancement of Modified Accredited Advanced Zone

In an interim rule effective and published in the Federal Register on March 23, 2009 (74 FR 12055-12058, Docket No. APHIS-2008-0124), we amended the tuberculosis regulations for cattle and bison by dividing New Mexico into two zones for tuberculosis. At the time, the entire State was classified as modified accredited advanced. The interim rule established all of New Mexico except Curry and Roosevelt Counties as an accredited-free zone. The area comprising Curry and Roosevelt Counties, along New Mexico's eastern border with Texas, was recognized as a separate zone that continued to have modified accredited advanced status.

We have received from the State of New Mexico a request to reclassify the modified accredited advanced zone. Based on the findings of a review of the tuberculosis eradication program in New Mexico conducted during May through July of 2011, APHIS has determined that the zone meets the criteria for advancement of status contained in the regulations.

State animal health officials in New Mexico have demonstrated that the State enforces and complies with the provisions of the UMR. The State of New Mexico has demonstrated that the modified accredited advanced zone has zero percent prevalence of cattle and bison herds affected with tuberculosis and has had no findings of tuberculosis in any cattle or bison in the zone since the last affected herd completed a test-and-remove herd plan and was released from quarantine in July 2009. Therefore, New Mexico has demonstrated that the zone within the State previously classified as modified accredited advanced meets the criteria for accredited-free status as set forth in the definition of accredited-free State or zone in § 77.5 of the regulations.

Based on our evaluation of New Mexico's request, we are classifying the zone composed of Curry and Roosevelt Counties as accredited free, which results in the entire State of New Mexico having an accredited-free classification.

Immediate Action

Immediate action is warranted to relieve restrictions on the interstate movement of cattle and bison from Curry and Roosevelt Counties in New Mexico. Under these circumstances, the Administrator has determined that prior notice and opportunity for public comment are contrary to the public interest and that there is good cause under 5 U.S.C. 553 for making this action effective less than 30 days after publication in the Federal Register.

We will consider comments we receive during the comment period for this interim rule (see DATES above). After the comment period closes, we will publish another document in the Federal Register. The document will include a discussion of any comments we receive and any amendments we are making to the rule.

Executive Order 12866 and Regulatory Flexibility Act

This interim rule is subject to Executive Order 12866. However, for this action, the Office of Management and Budget has waived its review under Executive Order 12866.

In accordance with the Regulatory Flexibility Act, we have analyzed the potential economic effects of this action on small entities. The analysis is summarized below. The full analysis may be viewed on the Regulations.gov Web site (see ADDRESSES above for instructions for accessing Regulations.gov) or obtained from the person listed under FOR FURTHER INFORMATION CONTACT.

Advancing the status of the former modified accredited advanced zone in New Mexico will reduce the interstate movement restrictions for cattle and bison originating from Curry and Roosevelt Counties. Herd owners in the area will no longer have to test their cattle and bison for bovine tuberculosis in order to move them interstate. Tuberculosis testing, including veterinary fees, costs about $10 to $15 per head. The annual cost savings associated with the removal of those tests for the 1,621 herds in the affected area are expected to be between $662,000 and $993,000, or from $408 to $613 per herd on average. In addition, tuberculosis testing costs represent no more than about 1.7 percent of the average value of the cattle tested ($870 per head on January 1, 2010).

Under these circumstances, the Administrator of the Animal and Plant Health Inspection Service has determined that this action will not have a significant economic impact on a substantial number of small entities.

Executive Order 12372

This program/activity is listed in the Catalog of Federal Domestic Assistance under No. 10.025 and is subject to Executive Order 12372, which requires intergovernmental consultation with State and local officials. (See 7 CFR part 3015, subpart V.)

Executive Order 12988

This rule has been reviewed under Executive Order 12988, Civil Justice Reform. This rule has no retroactive effect and does not require administrative proceedings before parties may file suit in court challenging this rule.

Paperwork Reduction Act

This rule contains no new information collection or recordkeeping requirements under the Paperwork Reduction Act of 1995 (44 U.S.C. 3501 et seq.).

List of Subjects in 9 CFR Part 77

Animal diseases, Bison, Cattle, Reporting and recordkeeping requirements, Transportation, Tuberculosis.

Accordingly, we are amending 9 CFR part 77 as follows:

PART 77—TUBERCULOSIS

1. The authority citation for part 77 continues to read as follows:

Authority: 7 U.S.C. 8301-8317; 7 CFR 2.22, 2.80, and 371.4.

§ 77.7 [Amended]

2. Section 77.7 is amended as follows:

a. In paragraph (a), by adding the words “New Mexico,” after the words “New Jersey,”.

b. By removing and reserving paragraph (b)(2).

§ 77.9 [Amended]

3. In § 77.9, paragraph (b)(3) is removed.

Done in Washington, DC, this 30th day of September 2011.
Gregory L. Parham,
Administrator, Animal and Plant Health Inspection Service.

[FR Doc. 2011-25687 Filed 10-3-11; 8:45 am]

BILLING CODE 3410-34-P